FEDERAL RESERVE SYSTEM

Agency Information Collection Activities: Announcement of Board Approval Under Delegated Authority and Submission to OMB

AGENCY: Board of Governors of the Federal Reserve System.

SUMMARY: The Board of Governors of the Federal Reserve System (Board) is adopting a proposal to implement the Discrimination Complaint Forms (FR 1413; OMB No. 7100-NEW).

DATES: The implementation is effective February 11, 2026.

FOR FURTHER INFORMATION CONTACT: Federal Reserve Board Clearance Officer—Nuha Elmaghrabi—Office of the Chief Data Officer, Board of Governors of the Federal Reserve System, nuha.elmaghrabi@frb.gov, (202) 452-3884.

Office of Management and Budget (OMB) Desk Officer for the Federal Reserve Board, Office of Information and Regulatory Affairs, Office of Management and Budget, New Executive Office Building, Room 10235, 725 17th Street NW, Washington, DC 20503, or by fax to (202) 395-6974.

SUPPLEMENTARY INFORMATION: On June 15, 1984, OMB delegated to the Board authority under the Paperwork Reduction Act (PRA) to approve and assign OMB control numbers to collections of information conducted or sponsored by the Board. Board-approved collections of information are incorporated into the official OMB inventory of currently approved collections of information. The OMB inventory, as well as copies of the PRA Submission, supporting statements (which contain more detailed information about the information collections and burden estimates than this notice), and approved collection of information instrument(s) are available at https://www.reginfo.gov/public/do/PRAMain. These documents are also available on the Federal Reserve Board's public website at https://www.federalreserve.gov/apps/reportingforms/review or may be requested from the agency clearance officer, whose name appears above. On the page displayed at the link above, you can find the supporting information by referencing the collection identifier, FR 1413.

Final Approval Under OMB Delegated Authority of the Implementation of the Following Information Collection

Collection title: Discrimination Complaint Forms.

Collection identifier: FR 1413.

OMB control number: 7100-NEW.

General description of collection: The FR 1413 consists of two forms: the Pre-Complaint of Discrimination (FR 1413A) and the Formal Complaint of Discrimination (FR 1413B). These forms are used by individuals alleging discrimination by the Board while they were either applying for or had separated from employment with the Board.

Frequency: Event-generated.

Respondents: Individuals.

Total estimated number of respondents: FR 1413A, 1; FR 1413B, 3.

Total estimated annual burden hours: 3.

Current actions: On December 6, 2024, the Board published a notice in the Federal Register (89 FR 96977) requesting public comment for 60 days on the implementation of the FR 1413. The comment period for this notice expired on February 4, 2025. The Board did not receive any comments relevant to this collection or to the PRA. However, the Board has made additional de minimis changes to the forms to reflect updates to the Board's EEO policy since the end of the public comment period.

Board of Governors of the Federal Reserve System, January 8, 2026.
Erin M. Cayce,
Assistant Secretary of the Board.

[FR Doc. 2026-00389 Filed 1-9-26; 8:45 am]

BILLING CODE 6210-01-P